ENVIRONMENTAL PROTECTION AGENCY

40 CFR Part 52

[EPA-R03-OAR-2012-0955; FRL-9901-40-Region 3]

Approval and Promulgation of Air Quality Implementation Plans; Delaware, District of Columbia, Maryland, Pennsylvania, Virginia, and West Virginia; Removal of Obsolete Regulations and Updates to Citations to State Regulations Due to Recodification; Correction

AGENCY: Environmental Protection Agency (EPA).

ACTION: Direct final rule; correction.

SUMMARY: This document contains a correction to the direct final rule, which was published on Thursday, June 6, 2013. The regulations related to removal of over fifty rules in the Code of Federal Regulations (CFR) for Delaware, the District of Columbia, Maryland, Pennsylvania, Virginia, and West Virginia because they are unnecessary or obsolete. Errors in the amendatory instruction are identified and corrected in this action.

DATES: Effective October 1, 2013.

FOR FURTHER INFORMATION CONTACT: Harold A. Frankford, (215) 814-2108, or by email at frankford.harold@epa.gov.

SUPPLEMENTARY INFORMATION:

Background

In a direct final rule published on June 6, 2013 (78 FR 33977), Amendatory Instruction Number 33 for § 52.2063 was incorrectly stated. This document corrects this amendatory instruction and set-out text to read as follows:

Need for Correction

As published, the final regulations contain an error in the amendatory instruction and set-out text:

List of Subjects in 40 CFR part 52

Air pollution control, Carbon monoxide, Environmental Protection Agency, Incorporation by reference, Intergovernmental relations, Lead, Nitrogen dioxide, Ozone, Particulate matter, Reporting and recordkeeping requirements, Sulfur oxides, Volatile organic compounds.

Accordingly, 40 CFR part 52 is corrected by making the following correcting amendment:

PART 52—APPROVAL AND PROMULGATION OF IMPLEMENTATION PLANS

1. The authority citation for part 52 continues to read as follows:

Authority: 42 U.S.C. 7401 et seq.

§ 52.2063 Original identification of plan section.

2. Section 52.2063 is revised to read as follows:”

(a) This section identifies the original “Air Implementation Plan for the Commonwealth of Pennsylvania” and all revisions submitted by Pennsylvania that were federally approved prior to February 10, 2005. The information in this section is available in the 40 CFR, part 52, Volume 2 of 2 (§§ 52.1019 to the end of part 52) editions revised as of July 1, 2005 through July 1, 2011, and the 40 CFR, part 52, Volume 3 of 3 (§§ 52.2020 to the end of part 52) edition revised as of July 1, 2012.

(b) [Reserved]

Dated: September 12, 2013.
W.C. Early,
Acting Regional Administrator, Region III.

[FR Doc. 2013-23792 Filed 9-30-13; 8:45 am]

BILLING CODE 6560-50-P